NATIONAL AERONAUTICS AND SPACE ADMINISTRATION

[Notice: 14-061]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: July 3, 2014.

FOR FURTHER INFORMATION CONTACT: Bryan A. Geurts, Patent Counsel, Goddard Space Flight Center, Mail Code 140.1, Greenbelt, MD 20771-0001; telephone (301) 286-7351; fax (301) 286-9502.

NASA Case No.: GSC-16336-1: Shape Memory Actuated Normally Open Permanent Isolation Valve;

NASA Case No.: GSC-16670-1: Optical Null Lens Verification Using Image-Based Wavefront Sensing;

NASA Case No.: GSC-16183-1: Composition and Apparatus Employing an Ablative Material;

NASA Case No.: GSC-16485-1: Broadband Planar Impedance Transformer;

NASA Case No.: GSC-16700-1: A Printed Circuit Board Assembly for Use in Space Missions;

NASA Case No.: GSC-16569-1: Mirrorlet Array for Integral Field Spectrometers (IFS);

NASA Case No.: GSC-16859-1: Graphene Chemical Sensor;

NASA Case No.: GSC-16555-1: Work Piece Cleaning Apparatus and Method with Pulsating Mixture of Liquid and Gas;

NASA Case No.: GSC-16887-1: Restore Propellant Transfer Assembly and Hose Box;

NASA Case No.: GSC-16789-1: Methods for Stable Growth of Synthetic Neural Systems;

NASA Case No.: GSC-16808-1: SpaceCube v. 2.0 Flight Power Card;

NASA Case No.: GSC-16196-1: Method of Modeling and Simulation of Shaped External Occulters;

NASA Case No.: GSC-16516-1: MEMS Chip with Microfluid Channel having Multi-Function Microposts;

NASA Case No.: GSC-16674-1: SpaceCube Communication Interface Box and Experiment Control Center;

NASA Case No.: GSC-16805-1: SpaceCube v. 2.0 Micro Single Board Computer.

Sumara M. Thompson-King,
Deputy General Counsel.

[FR Doc. 2014-15674 Filed 7-2-14; 8:45 am]

BILLING CODE 7510-13-P